DEPARTMENT OF COMMERCE

National Oceanic and Atmospheric Administration

50 CFR Part 226

RIN 0648-AX06

Endangered and Threatened Species; Proposed Rule to Revise the Critical Habitat Designation for the Endangered Leatherback Sea Turtle; Extension of Public Comment Period

AGENCY: National Marine Fisheries Service (NMFS), National Oceanic and Atmospheric Administration (NOAA), Commerce.

ACTION: Proposed rule; extension of public comment period.

SUMMARY: On January 5, 2010, NMFS proposed regulations to revise the critical habitat designation for the endangered leatherback sea turtle (Dermochelys coriacea) by designating additional areas within the Pacific Ocean. Specific areas proposed for designation include two adjacent marine areas totaling approximately 46,100 square miles (119,400 square km) stretching along the California coast from Point Arena to Point Vincente; and one 24,500 square mile (63,455 square km) marine area stretching from Cape Flattery, WA, to the Umpqua River (Winchester Bay), OR, east of a line approximating the 2,000 meter depth contour. The areas proposed for designation comprise approximately 70,600 square miles (182,854 square km) of marine habitat. NMFS is extending the comment period on the proposed regulations until April 23, 2010.

DATES: Comments and information regarding this proposed rule must be received by April 23, 2010.

ADDRESSES: Written comments on the proposed rule may be submitted, identified by RIN 0648-AX06, and addressed to: David Cottingham, Chief, Marine Mammal and Sea Turtle Conservation Division, by any of the following methods:

• Electronic Submissions: Submit all electronic comments via the Federal eRulemaking Portal: http://www.regulations.gov;

• Facsimile (fax): 301-713-4060, Attn: David Cottingham;

• Mail: Chief, Marine Mammal and Sea Turtle Conservation Division, NMFS, Office of Protected Resources, 1315 East West Highway, Silver Spring, MD, 20910.

Instructions: No comments will be posted for public viewing until after the comment period has closed. All comments received are a part of the public record and will generally be posted to http://www.regulations.gov without change. NMFS may elect not to post comments that contain obscene or threatening content. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only. The proposed rule and supporting documents, including the biological report, economic report, initial regulatory flexibility analysis, and 4(b)(2) report, are also available electronically at http://www.nmfs.noaa.gov/pr/species/turtles/leatherback.htm#documents.

FOR FURTHER INFORMATION CONTACT: Sara McNulty, NMFS, Office of Protected Resources, 301-713-2322; Elizabeth Petras, NMFS Southwest Region, 562-980-3238; Steve Stone, NMFS Northwest Region, 503-231-2317.

SUPPLEMENTARY INFORMATION: On January 5, 2010, NMFS published the Proposed Rule to Revise the Critical Habitat Designation for the Endangered Leatherback Sea Turtle (75 FR 319). That Federal Register notice began NMFS' 60-day comment period, ending on March 8, 2010.

NMFS subsequently received a request from the Pacific Fishery Management Council (Council) to extend the public comment period for an additional 45 days. The date the initial comment period closes falls in the middle of the Council's March 2010 meeting, precluding an opportunity for the Council to formulate and transmit comments. Additionally, the Council felt this proposed rule would be more appropriately discussed at the April Council meeting, where they plan to develop their comments. In this notice NMFS is extending the public comment period until April 23, 2010, in order to allow adequate time for the Council and others to thoroughly review and thoughtfully comment on the proposed rule.

Authority: 16 U.S.C. 1531 et seq.

Dated: February 12, 2010.
Samuel D. Rauch III,
Deputy Assistant Administrator for Regulatory Programs, National Marine Fisheries Service.

[FR Doc. 2010-3275 Filed 2-18-10; 8:45 am]

BILLING CODE 3510-22-S